DEPARTMENT OF TRANSPORTATION

National Highway Traffic Safety Administration

[Docket No. NHTSA-2015-0121]

Developing Evidence Based Fatigue Risk Management Guidelines for Emergency Medical Services: First Expert Panel Meeting

AGENCY: National Highway Traffic Safety Administration (NHTSA), U.S. Department of Transportation (DOT).

ACTION: Notice.

SUMMARY: The National Highway Traffic Safety Administration (NHTSA) is announcing the first in a series of expert panel meetings to develop evidence based guidelines for fatigue management in the Emergency Medical Services (EMS) community. This meeting will focus on generating research questions germane to fatigue mitigation in EMS settings as well as inclusion criteria for the evidence based guideline literature review. Members of the public are encouraged to attend the meeting and make comments about the topic during times set aside specifically for this purpose. Due to space limitations, attendance at the meeting is limited to invited participants and those who register in advance at www.emsfatigue.org. Written comments can also be made on http://www.regulations.gov (Docket No. NHTSA-2015-0121).

DATES: The meeting will be held on April 26th, 2016 from 8:00 a.m. to 5:30 p.m. and April 27th, 2016 from 8:00 a.m. to 12:00 p.m.

ADDRESSES: The meeting will be held in the Conference Center of the U.S. Department of Transportation, 1200 New Jersey Avenue SE., Washington, DC 20590.

FOR FURTHER INFORMATION CONTACT: Dr. J. Stephen Higgins, Telephone: 202-366-3976; email address: james.higgins@dot.gov.

SUPPLEMENTARY INFORMATION: NHTSA recently announced its new initiative with the National Association of State EMS Officials (NASEMSO) to develop evidence based voluntary fatigue risk management guidelines and resources tailored to the EMS occupation. NHTSA has already held one stakeholder meeting (February 2, 2016) where the project team and subject matter experts presented on the potential dangers of fatigued driving and the work of EMS practitioners, a summary of the project goals and methods for coming to consensus on EBG fatigue risk management guidelines, the plan for dissemination of EBGs, and additional project related activities and information. A majority of the time in the meeting was set aside to accept questions and comments from attendees and NHTSA heard a number of suggestions. These suggestions will feed into the current panel meeting and will help direct the development of research questions and the eventual evidence based fatigue management guidelines.

The goal of the first panel meeting will be to generate research questions germane to fatigue mitigation in EMS settings as well as inclusion criteria for the evidence based guideline literature review. The tentative agenda topics are as follows:

• Background on Fatigue in EMS and our approach to EBG development

• Overview of the GRADE methodology

• Expert Panel & Research Team presentations

• Panel Discussion

• Public Comment

Due to space limitations, attendance at the meeting is limited to invited participants and those who register in advance. All attendees must bring government issued identification to gain admittance to the DOT Building and should arrive at least 30 minutes in advance of the meeting to have sufficient time to clear DOT security. Those who do not register in advance may not be able to attend because of limited space in the DOT Conference Center. To register please visit www.emsfatigue.org or contact Dr. Higgins by phone: 202-366-3976 (web registration preferred).

Public Comment: Members of the public are encouraged to comment either in person at the meeting or at http://www.regulations.gov. In order to allow as many people as possible to provide comments at the meeting, speakers are requested to limit their remarks to 5 minutes. You may submit written comments identified by DOT Docket ID Number NHTSA-2015-0121 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays. Fax: 1-(202) 493-2251.

Instructions: Each submission must include the Agency name and the Docket number for this Notice. Note that all comments received will be posted without change to http://www.regulations.gov including any personal information provided.

Authority: 49 U.S.C. 30182; 23 U.S.C. 403.

Issued in Washington, DC, on April 8, 2016.
Jeff Michael,
Associate Administrator, Research and Program Development.

[FR Doc. 2016-08464 Filed 4-12-16; 8:45 am]

BILLING CODE 4910-59-P